ENVIRONMENTAL PROTECTION AGENCY

40 CFR Part 52

[EPA-R03-OAR-2012-0468; FRL-9698-1]

Approval and Promulgation of Air Quality Implementation Plans; Maryland; Revision for the Control of Volatile Organic Compounds Emissions From Vehicle Refinishing

AGENCY: Environmental Protection Agency (EPA).

ACTION: Proposed rule.

SUMMARY: EPA is proposing to approve a State Implementation Plan (SIP) revision submitted by the State of Maryland. The SIP revision amends Maryland's COMAR 26.11.19.23 “Control of Volatile Organic Compounds Emissions from Vehicle Refinishing” to establish new volatile organic compounds (VOC) content limits for coating and cleaning solvents used in vehicle refinishing and standards for coating application, work practices, monitoring, and recordkeeping. This action is being taken under the Clean Air Act (CAA).

DATES: Written comments must be received on or before August 9, 2012.

ADDRESSES: Submit your comments, identified by Docket ID Number EPA-R03-OAR-2012-0468 by one of the following methods:

A. www.regulations.gov. Follow the on-line instructions for submitting comments.

B. Email: mastro.donna@epa.gov.

C. Mail: EPA-R03-OAR-2012-0468, Donna Mastro, Acting Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2012-0468. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Emlyn Vélez-Rosa, (215) 814-2038, or by email at velez-rosa.emlyn@epa.gov.

SUPPLEMENTARY INFORMATION:

I. Background

Maryland was designated nonattainment with respect to the 1-hour ozone NAAQS on November 15, 1990, with several serious nonattainment areas, including: the Baltimore, Maryland area, the Maryland portion of the Philadelphia-Wilmington-Atlantic City area, and the Maryland portion of the Washington, DC area. Section 182(b)(1) of the CAA requires states with ozone nonattainment areas classified as moderate or above to submit a SIP revision that provides VOC emissions reductions of at least 15 percent from the baseline emissions of 1990. In Maryland, the 15 percent plans (the 15% rate-of-progress plans) were required for the 1-hour ozone nonattainment areas.

Pursuant to this requirement, Maryland revised its SIP on August 4, 1997 to adopt COMAR 26.11.19.23 “Control of Volatile Organic Compounds Emissions from Vehicle Refinishing.” The regulation would achieve fully enforceable VOC emissions reductions from vehicle refinishing sources throughout the State of Maryland, which were creditable towards the 15% rate-of-progress plans. The rule, which followed EPA's “Alternative Control Techniques (ACT) Document: Automobile Body Refinishing” (EPA-453/R-94-031, April 1994), established standards for vehicle refinishing based on VOC content of coatings, methods for calculating the VOC content of a coating system, and standards for operating, monitoring, reporting, and recordkeeping. The coating categories included: pretreatment coatings, precoatings, primer surfacers, primer sealers, topcoats, multi-stage coating systems, and specialty coatings.

Section 183(e) of the Act authorizes EPA to establish national standards to reduce VOC emissions from consumer and commercial products, including the automobile refinishing coatings. On September 11, 1998, a final rule “National Volatile Organic Compound Emissions Standards for Automobile Refinish Coatings” (EPA's National Rule) was published by EPA under the authority of section 183(e) of the CAA (63 FR 48806), as identified in 40 CFR part 59, subpart B. The federal rule applies to all automobile refinish coatings that are manufactured or imported for sale or distribution in the United States, and sets VOC content limits by automotive refinish category. See EPA's August 1998 report “Volatile Organic Compound Emissions from Automobile Refinishing—Background Information for Promulgated Standards” (EPA-453/R-96-011b).

On January 9, 2008, EPA published the final rule 40 CFR part 63 subpart HHHHHH “National Emission Standards for Hazardous Air Pollutants: Paint Stripping and Miscellaneous Surface Coating Operations at Area Sources” (EPA's 6H NESHAP), which includes automobile refinishing. This Federal rule specifically applies to area sources that engage in paint stripping operations that use methylene chloride (MeCl) containing paint stripping formulations, and in spray application of coatings to motor vehicle and mobile equipment, plastic and or metal substrate, where the coatings contain compounds of chromium, lead, manganese, nickel, or cadmium. Motor vehicle or mobile equipment surface coating operations may petition the EPA's Administrator for an exemption from this rule if the owner or operator can demonstrate, to the satisfaction of the EPA's Administrator, that the spray applied does not include coatings containing any of these compounds. This rule establishes important requirements for these types of facilities, among the following: Training certification of all new and existing personnel who spray surface coatings, minimum training requirements, and installation to all facilities of a filtered spray booth and enclosed spray gun cleaner.

Maryland's 1997 SIP-approved regulation COMAR 26.11.19.23 “Control of Volatile Organic Compounds Emissions from Vehicle Refinishing” complies with the federal standards established in EPA's rules. On May 8, 2012, EPA received a revision to the Maryland SIP submitted by the Maryland Department of Environment (MDE). The SIP revision (#12-04) amends Maryland's COMAR 26.11.19.23 “Control of Volatile Organic Compounds from Vehicle Refinishing,” in order to establish new standards and requirements for VOC, including: VOC content limits for coatings and solvents, controls on emissions from equipment cleaning, the use of coating application methods, recordkeeping, maintenance activities, and operator training. These amendments are based on the 2009 “Model Rule for Motor Vehicle and Mobile Equipment Non-Assembly Line Coating Operations” (MVMERR) developed in conjunction with member states of the Ozone Transport Commission (OTC). The MVMERR established requirements which comply with those established in EPA's National Rule and 6H NESHAP.

II. Summary of SIP Revision

The proposed SIP revision establishes VOC content limits for automotive coatings and cleaning solvents used in vehicle refinishing, and standards for coating application, work practices, monitoring, and recordkeeping, to be effective for all affected sources as of July 1, 2013. Sources subject to the requirements of this regulation include: auto body and repair facilities, fleet operator repair and paint facilities, new and used auto dealer repair and paint facilities, and after-market auto customizing and detailing facilities located throughout the State of Maryland; manufacturers, suppliers, distributors of coatings and cleaning solvents intended for use and application to motor vehicles, mobile equipment, and associated components within the State of Maryland; and manufacturers, suppliers, and distributors of application equipment and materials storage such as spray booths, spray guns, and sealed containers for cleaning rags for use within Maryland.

The regulation establishes VOC content limits for 11 categories of automotive coatings and two categories of cleaning solvents which are used in the preparation, application, and drying phases of vehicle refinishing. The VOC content limits established for the automotive coatings and solvents exclude water and exempt compounds as listed in 40 CFR 51.100(s), and are provided in Table 1 and Table 2, respectively.

Table 1—VOC Content Limits for Automotive Coatings for Motor Vehicle and Mobile Equipment Refinishing and Recoating VOC Content Limit for Automotive Coatings
Coating category | Maximum VOC content: lbs/gal | Maximum VOC content: g/L
Adhesion promoter | 4.5 | 540
Automotive pretreatment coating | 5.5 | 660
Automotive primer | 2.1 | 250
Clear coating | 2.1 | 250
Color coating, including metallic/iridescent color coating | 3.5 | 420
Multicolor coating | 5.7 | 680
Other automotive coating type | 2.1 | 250
Single-stage coating, including single-stage metallic/iridescent coating | 2.8 | 340
Temporary protective coating | 0.5 | 60
Truck bed liner coating | 1.7 | 200
Underbody coating | 3.6 | 430

Table 2—VOC Content Limits for Cleaning Solvents for Motor Vehicle and Mobile Equipment Refinishing and Recoating VOC Content Limit for Cleaning Solvents
Solvent category | Maximum VOC content
Cleaning solvent (other than bug and tar removers) | 0.21 lbs/gal | 25 g/L.
Bug and tar removers** | 40% VOC by weight.

The regulation provides methods for calculating the VOC content of coatings and cleaning solvents and a list of test methods to be used for demonstrating compliance with provisions of this regulation. Instead of complying with the VOC content limits specified, a person subject to this regulation may use an emission control device that has been approved by MDE, which achieves an overall emission control efficiency of 85 percent or greater, as determined in accordance with the approved test methods. The regulation requires using at least one of the approved methods for applying an automotive coating, including: Flow or curtain coating, dip coating, brush coating, cotton-tipped swab application, electrodeposition coating, high volume-low pressure (HVLP) spraying, electrostatic spraying, airless spraying, or an alternate spray equipment method approved by MDE. Work practice standards include procedures for cleaning the spray gun equipment for applying automotive coatings. Affected facilities are also required to keep extensive records on the total amount of coating used, VOC actual and regulatory contents, purchase records, and system operating parameters of any emission control device installed. Additional information concerning EPA's review and rationale for proposing to approve this SIP revision may be found in the Technical Support Document (TSD) for this action which is available on line at www.regulations.gov, Docket number EPA-R03-OAR-2012-0468.

III. Proposed Action

The Maryland SIP revision for the control of VOC emissions from vehicle refinishing under Regulation COMAR 26.11.19.23, as adopted by the State of Maryland on March 26, 2012, meets the applicable requirements of the CAA and the applicable EPA regulations. The SIP revision will achieve emission reductions of VOC throughout the State of Maryland. EPA is proposing to approve this Maryland SIP revision submitted on May 8, 2012. EPA is soliciting public comments on the issues discussed in this document. These comments will be considered before taking final action.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule, pertaining to Maryland's COMAR 26.11.19.23 “Control of Volatile Organic Compounds Emissions from Vehicle Refinishing,” does not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Ozone, Reporting and recordkeeping requirements, Volatile organic compounds.

Authority: 42 U.S.C. 7401 et seq.

Dated: June 27, 2012.
W.C. Early,
Acting Regional Administrator, Region III.

[FR Doc. 2012-16809 Filed 7-9-12; 8:45 am]

BILLING CODE 6560-50-P